DEPARTMENT OF TRANSPORTATION

Federal Aviation Administration

Notice of Passenger Facility Charge (PFC) Approvals and Disapprovals

AGENCY: Federal Aviation Administration (FAA), DOT.

ACTION: Monthly Notice of PFC Approvals and Disapprovals. In March 2011, there were four applications approved. This notice also includes information on three applications, approved in February 2011, inadvertently left off the February 2011 notice. Additionally, five approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Texarkana Airport Authority, Texarkana, Arkansas.

Application Number: 11-07-C-00-TXK.

Application Type: Impose and use a PFC.

PFC Level: $4.50.

Total PFC Revenue Approved in This Decision: $850,066.

Earliest Charge Effective Date: August 1, 2011.

Estimated Charge Expiration Date: September 1, 2018.

Class of Air Carriers Not Required To Collect PFCs: Air taxi/commercial operators filing FAA Form 1800-31.

Determination: Approved. Based on information contained in the public agency's application, the FAA has determined that the approved class accounts for less than 1 percent of the total annual enplanements at Texarkana Regional Airport.

Brief Description of Projects Approved for Collection and Use:

Design/construct passenger terminal and land/airside.

PFC application development.

Decision Date: February 24, 2011.

FOR FURTHER INFORMATION CONTACT: Paul Burns, Arkansas/Oklahoma Airports Development Office, (817) 222-5648.

Public Agency: Salt Lake City Corporation, Salt Lake City, Utah.

Application Number: 10-12-C-00-SLC.

Application Type: Impose and use a PFC.

PFC Level: $4.50.

Total PFC Revenue Approved in This Decision: $70,253,000.

Earliest Charge Effective Date: June 1, 2011.

Estimated Charge Expiration Date: March 1, 2013.

Class of Air Carriers Not Required To Collect PFCs: Air taxi/commercial operators filing or required to file FAA Form 1800-31.

Determination: Approved. Based on information contained in the public agency's application, the FAA has determined that the approved class accounts for less than 1 percent of the total annual enplanements at Salt Lake City International Airport (SLC).

Brief Description of Projects Approved for Collection at SLC and Use at SLC at a $4.50 PFC Level:

Runway 16L/34R pavement rehabilitation.

Concourse B—additional boarding bridges.

North cargo area.

Concourse and terminal improvements.

Brief Description of Projects Approved for Collection at SLC and Use at SLC at a $3.00 PFC Level:

Snow equipment storage facility.

Concourse B—vertical circulation improvement.

Egress doors improvements.

Deicing and snow control tanks.

Brief Description of Project Approved for Collection at SLC and Use at Bolinder Field-Toole Valley Airport (TVY) at a $3.00 PFC Level: Land acquisition-TVY easements.

Brief Description of Disapproved Projects: Purchase of wetlands credits.

Determination: The maintenance of replacement wetlands is not PFC eligible.

Joint seal runway 16R134L.

Joint seal runway 16R/34L—taxiways A and B.

Determination: Routine pavement maintenance is not PFC eligible.

3700 West (UTA) fiber infrastructure and improvement.

Determination: The public agency failed to provide information indicating that this project provided a benefit to the airport. Therefore, it does not meet the requirements of § 158.15(a).

Decision Date: February 25, 2011.

FOR FURTHER INFORMATION CONTACT: Chris Schaffer, Denver Airports District Office, (303) 342-1258.

Public Agency: Cities of Pullman, Washington and Moscow, Idaho.

Application Number: 11-07-C-00-PUW.

Application Type: Impose and use a PFC.

PFC Level: $4.50.

Total PFC Revenue Approved in This Decision: $101,950.

Earliest Charge Effective Date: January 1, 2013.

Estimated Charge Expiration Date: November 1, 2013.

Class of Air Carriers Not Required To Collect PFCs: Non-scheduled air taxi/commercial operators filing FAA Form 1800-31.

Determination: Approved. Based on information contained in the public agency's application, the FAA has determined that the approved class accounts for less than 1 percent of the total annual enplanements at Pullman-Moscow Regional Airport.

Brief Description of Projects Approved for Collection and Use:

Airport drainage improvements.

Procurement of aircraft rescue and firefighting vehicle.

Land acquisition.

Security enhancements.

Rehabilitate aircraft rescue and firefighting building.

PFC administration.

Decision Date: February 28, 2011.

FOR FURTHER INFORMATION CONTACT: Karen Miles, Seattle Airports District Office, (425) 227-2661.

Public Agency: City of Long Beach, California.

Application Number: 11-06-U-00-LGB.

Application Type: Use PFC revenue.

PFC Level: $4.50.

Total PFC Revenue Approved for Use in This Decision: $86,532,700.

Earliest Charge Effective Date: November 1, 2015.

Estimated Charge Expiration Date: March 1, 2029.

Class of Air Carriers Not Required To Collect PFCs: No change from previous decision.

Brief Description of Project Approved for Use: Terminal area improvements.

Decision Date: March 1, 2011.

For Further Information Contact: Darlene Williams, Los Angeles Airports District Office, (310) 725-3625.

Public Agency: City of Brownsville, Texas.

Application Number: 11-06-C-00-BRO.

Application Type: Impose and use a PFC.

PFC Level: $4.50.

Total PFC Revenue Approved in This Decision: $313,236.

Earliest Charge Effective Date: April 1, 2020.

Estimated Charge Expiration Date: April 1, 2021.

Class of Air Carriers Not Required To Collect PFCs: None.

Brief Description of Projects Approved for Collection and Use:

Rehabilitate taxiway E.

Rehabilitate runway lighting 13R/31L.

Apron lighting.

Perimeter fencing.

Airport drainage improvements.

Airfield guidance signs.

Miscellaneous terminal plan study.

Wildlife hazard assessments.

Taxiway B rehabilitation design.

Displace runway 17/35.

PFC application and administration fees.

Brief Description of Disapproved Project: Install airport beacons.

Determination: This project does not meet the requirements of § 158.25(c). The environmental review for the project is not complete.

Decision Date: March 3, 2011.

For Further Information Contact: Sarah Conner, Texas Airports Development Office, (817) 222-5682.

Public Agency: City of Cleveland, Ohio.

Application Number: 11-11-C-00-CLE.

Application Type: Impose and use a PFC.

PFC Level: $4.50.

Total PFC Revenue Approved in This Decision: $36,577,300.

Earliest Charge Effective Date: July 1, 2019.

Estimated Charge Expiration Date: February 1, 2021.

Class of Air Carriers Not Required To Collect PFCs: Nonscheduled/on-demand air carriers filing FAA Form 1800-31.

Determination: Approved. Based on information contained in the public agency's application, the FAA has determined that the approved class accounts for less than 1 percent of the total annual enplanements at Cleveland Hopkins International Airport.

Brief Description of Projects Approved for Collection and Use at a $3.00 PFC Level:

Doan Brook restoration.

Deicing environmental upgrades.

Main terminal roof replacement.

Main terminal boiler replacement.

Roadway expansion joint repair/replacement.

Airport-wide flight information display system/baggage information display system and signage replacement.

Airport-wide in-line baggage system design.

Airport master plan update.

Brief Description of Projects Approved for Collection and Use at a $4.50 PFC Level:

Runway 10/28 runway safety area improvements.

South cargo ramp rehabilitation.

Taxiway N rehabilitation.

Security system enhancements.

Interactive Part 139 airport operations training program.

Brief Description of Project Partially Approved for Collection and Use at a $3.00 PFC Level: Main substation (MS1 and MS2) redundant electrical power feed and emergency generators.

Determination: The MS1 upgrade is only eligible to the extent it serves eligible facilities and the FAA determined that not all facilities served were eligible. Further, the FAA determined that the backup generators were not eligible.

Brief Description of Disapproved Project: Information technology network infrastructure upgrades.

Determination: The FAA determined that this project did not meet the requirements of § 158.15(b).

Decision Date: March 11, 2011.

For Further Information Contact: Irene Porter, Detroit Airports District Office, (734) 229-2915.

Public Agency: City of Savannah and Savannah Airport Commission, Savannah, Georgia.

Application Number: 10-08-C-00-SAV.

Application Type: Impose and use a PFC.

PFC Level: $4.50.

Total PFC Revenue Approved in This Decision: $4,066,265.

Earliest Charge Effective Date: January 1, 2015.

Estimated Charge Expiration Date: April 1, 2016.

Class of Air Carriers Not Required To Collect PFCs: Air taxi/commercial operators filing FAA Form 1800-31.

Determination: Approved. Based on information contained in the public agency's application, the FAA has determined that the approved class accounts for less than 1 percent of the total annual enplanements at Savannah/Hilton Head International Airport.

Brief Description of Projects Approved for Collection and Use:

Asphalt pavement replacement-runway 19/1.

Construct taxiway A extension.

Rehabilitate taxiway B2, north end of taxiway B, taxiway C, and taxiway E1.

General aviation connector taxiway and site development of north terminal.

Terminal entrance walkways.

General aviation taxiways 4 and 5 shoulder edge lights.

Implementation and administrative costs for PFC no. 8, amendment No. 1 to PFC No. 7, and amendment No. 2 to PFC No. 6.

Environmental assessment north development.

Surface painted holding position signs.

Two valet bag belt systems.

Airport operations area obstruction survey.

Closed circuit television system replacement.

Interactive employee training upgrade.

Pre-conditioned air hose upgrade (five boarding bridges).

Brief Description of Projects Partially Approved for Collection and Use: Public address system replacement.

Determination: The approval is limited to that portion of the project needed to make required automatic security announcements and to feed these announcements into the public address system.

Lighting and reseal joints to runways: Add two airport operations area access gates; and replace failed taxiways and ramp concrete paving slabs.

Determination: The approval is limited to the cost associated with the runway lights. The public agency failed to provide any justification for the other project components.

Brief Description of Projects Approved for Collection:

Site mitigation.

Realign and construct Gulfstream Road/tunnel construction.

Taxiway A extension north-construction.

Electrical vault.

Taxiway H construction.

Storm water update.

Gulfstream Road/tunnel design.

Taxiway A design.

Taxiway H design.

Airfield electrical vault design.

Decision Date: March 17, 2011.

For Further Information Contact: John Marshall, Atlanta Airports District Office, (404) 305-7153.

Amendments to PFC Approvals
Amendment No., city, state | Amendment approved date | Original approved net PFC revenue | Amended approved net PFC revenue | Original estimated charge exp. date | Amended estimated charge exp. date
04-07-C-04-JNU Juneau, AK | 02/25/11 | $3,566,606 | $3,575,162 | 03/01/08 | 03/01/08
09-05-C-01-BRO Brownsville, TX | 03/03/11 | 3,055,366 | 3,485,972 | 07/01/18 | 04/01/20
02-06-C-10-MSY New Orleans, LA | 03/11/11 | 287,977,095 | 293,951,336 | 12/01/19 | 06/01/20
06-08-C-02-MSY New Orleans, LA | 03/11/11 | 1,023,858 | 1,000,000 | 10/01/18 | 07/01/25
09-10-C-02-MSY New Orleans, LA | 03/11/11 | 52,805,580 | 40,592,406 | 06/01/26 | 02/01/26

Issued in Washington, DC, on May 5, 2011.
Joe Hebert,
Manager, Financial Analysis and Passenger Facility Charge Branch.

[FR Doc. 2011-11574 Filed 5-12-11; 8:45 am]

BILLING CODE M